DEPARTMENT OF AGRICULTURE

Forest Service

Payette National Forest, Krassel and McCall Ranger Districts, Idaho; and Boise National Forest, Cascade Ranger District, Idaho; South Fork Salmon River Subbasin Noxious Weed Management

AGENCY: Forest Service, USDA.

ACTION: Notice of intent to prepare an environmental impact statement (EIS).

SUMMARY: The USDA Forest Service will prepare an environmental impact statement (EIS) for management of noxious and invasive weeds in the South Fork Salmon River (SFSR) Subbasin. The analysis area of approximately 788,660 acres includes headwater streams to the Salmon River and includes portions of the Boise National Forest (BNF) and Payette National Forest (PNF) in central Idaho. The subbasin is immediately adjacent to and upstream of the Frank Church River of No Return (FC-RONR) Wilderness. The purpose of the proposed project is to identify and treat noxious and invasive weeds using a variety of methods including herbicide application by hand and aerial spraying. The need is to minimize the impacts of noxious and invasive weeds. The EIS will disclose the environmental effects of the proposed action and alternatives. The Forest Service now invites comments on the scope of the analysis and the issues to address.

DATES: Comments must be received by January 19th, 2004. The Draft EIS is expected in October 2004, and the Final EIS is expected in April 2005.

ADDRESSES: Send written comments to: District Ranger, Krassel Ranger District, P.O. Box 1026, McCall, Idaho 83638.

FOR FURTHER INFORMATION CONTACT: Ana Egnew, Krassel Ranger District, P.O. Box 1026, McCall, Idaho 83638 or phone (208) 634-0600.

SUPPLEMENTARY INFORMATION:

Purpose and Need for Action

The purpose of the proposed project is to:

• Prioritize weed species and treatment areas;

• Identify and treat weed infestations using a variety of methods including herbicide application by hand and aerial spraying;

• Prevent or limit the introduction and establishment of noxious and invasive weed species; and

• Maintain native plant communities and watershed function.

The SFSR Subbasin is an ecologically important, relatively pristine area where the spread of noxious and invasive weeds could result in unacceptable consequences on fish and wildlife habitat, recreation, and other resources.

Proposed Action

The overall management objective of the proposed action is to maximize the treatment of noxious and invasive weeds throughout the SFSR Subbasin. The proposed action would prioritize noxious and invasive weed species and treatment areas within the Subbasin based on the following goals:

1. Treat all known sites less than 5 acres in size with the goal of eradication.

2. Reduce all established areas of noxious and invasive weeds greater than 5 acres in size by 50 percent.

Treatment would begin by determining the minimum tool necessary to achieve management objectives (see below). Treatment methods would include removal by hand pulling and shovel, herbicide treatment by hand, herbicide treatment with truck mounted equipment, aerial application of herbicides, and biological control. Limits would be placed on the type, amount, and location of herbicide use. Noxious and invasive weed management would also include education and preventive measures such as area closures and weed-free hay requirements and inspections. Weeds would be treated on a maximum area of 3,000 acres each year in the SFSR Subbasin. The distribution of treatment acres between ground application, aerial application, and mechanical treatment, and biological control would likely vary on a yearly basis; however, it is expected that ground application would dominate.

The minimum tool approach means that managers would use the minimum necessary weed treatment method(s) to accomplish management objectives.

The minimum tool approach would be implemented on a site-specific basis. A number of steps would be followed to determine and implement the most appropriate site-specific treatment method including:

• Detection of the weed;

• Prioritization of weed treatment at a particular site;

• Determination if sensitive environmental receptors are present;

• Consideration of potential for adverse effects;

• Determination of the treatment methods, including minimum tool method;

• Selection of appropriate treatment method for the weed; and

• Treatment followed by restoration and monitoring, as necessary.

Possible Alternatives

A “No Action” alternative is required under NEPA regulations and also serves as a baseline for comparison of other alternatives. The No Action Alternative would be no chemical treatment, because no environmental analysis has ever been completed for noxious weed treatment in the SFSR Subbasin. Another alternative to be considered would include the same noxious weed treatment methods that are used on the remainder of the Payette National Forest.

Scoping Process

The Forest Service is seeking comments from individuals, organizations, Tribal governments, and federal, state, and local agencies interested in or affected by this project. Public participation will be solicited through news releases, scoping meetings and requests for written comments. The first formal opportunity to comment is to respond to this notice of intent, which initiates the scoping process (40 CFR 1501.7). Scoping includes: (1) Identifying potential issues, (2) identifying significant issues, (3) exploring alternatives, and (4) identifying potential environmental effects of the proposed action and alternatives.

Preliminary Issues

The Forest Service has identified the following nine potential issues. Public input will help determine which of these issues and what other issues merit detailed analyses.

• Issue 1—Water Quality: Effects to water quality.

• Issue 2—Soil: Effects to soil productivity.

• Issue 3—Fisheries Resources: Effects to listed species.

• Issue 4—Vegetation: Effects on native plant communities and rare plants.

• Issue 5—Fire and Fuels: Effects on fire regimes and spread of weeds due to fire.

• Issue 6—Wildlife Resources: Effects on big game, listed species, Forest Service sensitive species, and PNF and BNF Management Indicator Species (MIS).

• Issue 7—Recreation: Effects to inventoried Roadless Areas, Wild and scenic Rivers, adjacent Wilderness, and visual resources.

• Issue 8—Cultural Resources: Effects of treatment methods on cultural resources, particularly Traditional Cultural Properties (TCP).

• Issue 9—Human Health: Effects of herbicide use on human health.

Comment Requested

This notice of intent initiates the scoping process that guides the development of the EIS. To assist the Forest Service in identifying and considering issues and alternatives, comments should be as specific as possible. Reviewers may wish to refer to the Council on Environmental Quality Regulations for implementing the procedural provisions of the National Environmental Policy Act at 40 CFR 1503.3 in addressing these points. Comments received, including the names and addresses of those who comment, will be part of the project record and will be available for public inspection.

Early Notice of Importance of Public Participation in Subsequent Environmental Review

The Draft EIS is proposed to be available for public comment in October of 2004. The comment period on the Draft EIS will be 45 days from the date the Environmental Protection Agency publishes the notice of availability in the Federal Register.

The Forest Service believes it is important to give reviewers notice of several court rulings related to public participation in the environmental review process. First reviewers of draft EISs must structure their participation in the environmental review of the proposal so that is meaningful and alerts an agency to the reviewer's position and contentions. Vermont Yankee Nuclear Power Corp., v NRDC, 435 U.S. 519, 553 (1978). Also, environmental objections that could be raised at the draft EIS stage, but that are not raised until completion of the final EIS, may be waived or dismissed by the courts. City of Angoon v. Hodell, 803 F .2d 1016, 1002 (9th Cir. 1986), and Wisconsin Heritages, Inc., v. Harris, 490 F. Supp. 1334, 1338 (E. D. Wis. 1980). Because of these court rulings, it is important that those interested in this proposed action participate by the close of the 45-day comment period so substantive comments and objections are made available to the Forest service at a time when it can meaningfully consider them and respond to them in the final EIS.

Nature of Decision To Be Made

This decision will be whether or not to implement specific noxious weed management activities in the SFSR Subbasin, and if so, what types of weed treatments would be implemented. The decision would include any mitigation measures needed in addition to those prescribed in the Forest Plans.

Responsible Official

I am the responsible official for the preparation of the EIS. The deciding officials for the decision to accompany the Final EIS are: Mark J. Madrid, Forest Supervisor, Payette National Forest, P.O. Box 1026, McCall, Idaho 83628; and Richard A. Smith, Forest Supervisor, Boise National Forest, 1249 South Vinnell Way, Suite 200, Boise, Idaho 83709.

Dated: December 12, 2003.
Mark J. Madrid,
Forest Supervisor.

[FR Doc. 03-31190 Filed 12-17-03; 8:45 am]

BILLING CODE 3410-11-M